DEPARTMENT OF HEALTH AND HUMAN SERVICES

Centers for Medicare & Medicaid Services

[Document Identifier: CMS-9042, CMS-10374, CMS-10385, CMS-10402 and CMS-10396]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Accelerated Payments and Supporting Regulations 42 CFR, Section 412.116(f), 412.632(e), 413.64(g), 413.350(d), and 484.245; Use: This information is used by the contractor to determine the provider's eligibility for accelerated payments. If this information were not furnished with an accelerated payment request, the contractor would not be able to assess whether the provider's financial difficulties justified the accelerated payment; Form Number: CMS-9042 (OMB # 0938-0269); Frequency: Yearly; Affected Public: Private Sector; Business or other for-profit and not-for-profit institutions; Number of Respondents: 37,804; Total Annual Responses: 945; Total Annual Hours: 473. (For policy questions regarding this collection contact Leonard Fisher at 410-786-4574 TTY. For all other issues call 410-786-1326.)

2. Type of Information Collection Request: New collection of information; Title of Information Collection: Training Needs Assessment, Evaluation/Survey—Question Compilation; Use: The intent of this information collection is to assist in the creation and enhancement of training for Federal and State health care surveyors and certification specialists. The purpose of the collection is to gather information for training needs assessment, training analysis, related demographic, psychographics and technographics to support the development and enhancement of training and training aids; Form Number: CMS-10374 (OMB # 0938-New); Frequency: Half-year (2 per year); Affected Public: State, Local, or Tribal Governments; Number of Respondents: 2,161; Total Annual Responses: 4,322; Total Annual Hours: 1,430. (For policy questions regarding this collection contact Etolia Biggs at 410-786-8664. For all other issues call 410-786-1326.)

3. Type of Information Collection Request: Extension of a currently approved collection; Title of Information Collection: Expedited Checklist: Medicaid Eligibility & Enrollment Systems—Advance Planning Document (E&E-APD); Use: Under sections 1903(a)(3)(A)(i) and 1903(a)(3)(B) of the Social Security Act, CMS has issued new standards and conditions that must be met by States for Medicaid technology investments (including traditional claims processing systems, as well as eligibility systems) to be eligible for enhanced match funding. The Checklist will be submitted by States to the E&E APD National Coordinator for review and coordination in the Eligibility/Enrollment Systems APD approval assignment. The information requested on the Checklist will be used to determine and approve enhanced FFP to States and to determine how States are complying with the seven standards and conditions; Form Number: CMS-10385 (OMB#: 0938-1125); Frequency: Occasionally; Affected Public: State, Local, or Tribal Governments; Number of Respondents: 56; Total Annual Responses: 168; Total Annual Hours: 204. (For policy questions regarding this collection contact Richard Friedman at 410-786-4451. For all other issues call 410-786-1326.)

4. Type of Information Collection Request: New collection; Title of Information Collection: Medicaid State Plan Preprint for Use by States When Implementing Section 6401 of the Patient Protection and Affordable Care Act under the Medicaid Program; Use: The Secretary, in consultation with the Department of Health of Human Services' Office of the Inspector General, is required to establish procedures under which screening is conducted with respect to providers of medical or other items or services and suppliers under Medicare, Medicaid, and CHIP. The Secretary is also required to impose a fee on each institutional provider of medical or other items or services or supplier that would be used by the Secretary for program integrity efforts. States are required to comply with the process of screening providers and suppliers as established by the Secretary under 1866(j)(2) of the Affordable Care Act. The Office of General Counsel through guidance, is requiring that States use the Medicaid State Plan Preprint to assure CMS compliance with the law. CMS will use the information to review and approve the State plan. States would refer to the State plan on an as needed basis to manage and operate their Medicaid programs under Title XIX of the Social Security Act; Form Number: CMS-10402 (OMB # 0938-New); Frequency: Once; Affected Public: State, Local, or Tribal Governments; Number of Respondents: 56; Total Annual Responses: 56; Total Annual Hours: 14. (For policy questions regarding this collection contact Richard Friedman. at 410-786-4451. For all other issues call 410-786-1326.)

5. Type of Information Collection Request: New collection; Title of Information Collection: Medication Therapy Management Program Improvements—Standardized Format. Use: The Medicare Modernization Act of 2003 (MMA) under title 42 CFR Part 423, Subpart D, established the requirements that Part D sponsors must meet with regard to medication therapy management (MTM) programs. Beginning in 2010, sponsors must offer an interactive, person-to-person comprehensive medication review (CMR) by a pharmacist or other qualified provider at least annually. A CMR is a review of a beneficiary's medications, including prescription and over-the-counter (OTC) medications, herbal therapies, and dietary supplements, which is intended to aid in assessing medication therapy and optimizing patient outcomes. Sponsors must summarize the CMR and provide an individualized written or printed summary to the beneficiary. The burden associated with the time and effort necessary for Part D sponsors to conduct CMRs with written summaries was estimated previously under OMB Control Number 0938-0964 as 937,500 hours with total labor cost of $112.5 million.

The Affordable Care Act (ACA) under Section 10328 specifies that the Secretary, in consultation with relevant stakeholders, develop a standardized format for the action plan and written or printed summary that are given to beneficiaries as a result of their CMRs. The standardized format will replace whatever formats Part D sponsors are using for their written CMR summaries and action plans prior to 2013. Beginning in January, 2013, Part D sponsors will collect information required by the new standardized format, and provide that information to Medicare beneficiaries after their CMRs on forms that comply with the requirements specified by CMS for the standardized format. The use of the standardized format will increase the burden associated with providing the CMRs with written summaries and action plans as described in this submission. The use of the standardized format will support a uniform and consistent level of MTMP communications with beneficiaries, improve the ability of beneficiaries to understand and manage their medications safely and effectively, and support improved healthcare outcomes and lower overall healthcare costs. The final standardized format will be posted in the 2013 Call Letter for implementation by Part D sponsors in January 2013. Form Number: CMS-10396 (OCN: 0938-New); Frequency: Yearly; Affected Public: Private Sector—Business or other For-profits; Number of Respondents: 673; Number of Responses: 1,875,000; Total Annual Hours: 1,179,894. (For policy questions regarding this collection, contact Gary Wirth at 410-786-3997. For all other issues call (410) 786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments for the proposed information collections must be received by the OMB desk officer at the address below, no later than 5 p.m. on October 31, 2011.

OMB, Office of Information and Regulatory Affairs, Attention: CMS Desk Officer, Fax Number: (202) 395-6974, E-mail: OIRA_submission@omb.eop.gov.

Dated: September 27, 2011.
Martique Jones,
Director, Regulations Development Group, Division B, Office of Strategic Operations and Regulatory Affairs.

[FR Doc. 2011-25271 Filed 9-29-11; 8:45 am]

BILLING CODE 4120-01-P